INTERNATIONAL TRADE COMMISSION

[Investigation Nos. 731-TA-1146 and 1147 (Review)]

1-Hydroxyethylidene-1,1-Diphosphonic Acid (Hedp) From China and India

AGENCY: United States International Trade Commission.

ACTION: Notice.

SUMMARY: The subject five-year reviews were initiated in March 2014 to determine whether revocation of the antidumping duty orders on HEDP from China and India would be likely to lead to continuation or recurrence of material injury. On June 2, 2014, the Department of Commerce published notice that it was revoking the orders effective June 2, 2014, because “the domestic interested parties did not participate in these sunset reviews.” (79 FR 31301). Accordingly, pursuant to section 751(c) of the Tariff Act of 1930 (19 U.S.C. 1675(c)), the subject reviews are terminated.

DATES: Effective Date: June 4, 2014.

FOR FURTHER INFORMATION CONTACT: Fred Ruggles (202-205-3187), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

Authority: These reviews are being terminated under authority of title VII of the Tariff Act of 1930; this notice is published pursuant to section 207.69 of the Commission's rules (19 CFR § 207.69).

By order of the Commission.
Issued: June 6, 2014.
Lisa R. Barton,
Secretary to the Commission.

[FR Doc. 2014-13577 Filed 6-10-14; 8:45 am]

BILLING CODE 7020-02-P